FEDERAL EMERGENCY MANAGEMENT AGENCY

Joint Publicly Observed Meeting of the Nuclear Regulatory Commission and the Federal Emergency Management Agency

AGENCY: Federal Emergency Management Agency (FEMA).

ACTION: Notice of publicly observed meeting.

SUMMARY: FEMA announces the following joint publicly observed meeting sponsored by the Nuclear Regulatory Commission (NRC) and FEMA.

Name: Exercise Evaluation Methodology and Alert and Notification System-related Issues.

Date of Meeting: Wednesday, February 20, 2002.

Place: FEMA Lobby Conference Room, 500 C Street, SW., Washington, DC 20472.

Time: 8:30 am to 4:30 pm.

Proposed Agenda: The proposed agenda is:

(a) NRC/FEMA introductions and statement of purpose.

(b) Discussion of an Exercise Evaluation Methodology for evaluation of capability to notify the public during rapidly developing emergency scenarios.

(c) Change of the Alert and Notification System Reliability Performance Indicator to use availability vice reliability.

(d) Discussion of need to change FEMA-REP-10 surveillance reporting guidance in conformance with a change to the performance indicator.

(e) Future discussions/meetings.

FOR FURTHER INFORMATION CONTACT: Mr. O.C. Payne, Federal Emergency Management Agency, (telephone) 202-646-2864 or (e-mail) oc.payne@fema.gov, or Randy Sullivan, Nuclear Regulatory Commission, (telephone) 301-415-1123 or (e-mail) rxs3@nrc.gov.

SUPPLEMENTARY INFORMATION: We expect that representatives of the NRC, FEMA, Nuclear Energy Institute, nuclear power industry, States, and public interest groups will participate in the meeting. Our purpose is to collect information to develop performance criteria for evaluating fast-breaking nuclear power plant emergency events. This meeting will be open to the public with limited seating available on a first-come, first-served basis. Members of the general public who want to attend the meeting should contact Mr. O.C. Payne, (telephone) 202-646-2864 or (e-mail) oc.payne@fema.gov on or before Monday, February 18, 2002.

Dated: February 5, 2002.
Michael D. Brown,
General Counsel.

[FR Doc. 02-3134 Filed 2-7-02; 8:45 am]

BILLING CODE 6718-01-P